DEPARTMENT OF ENERGY

Federal Energy Regulatory Commission

[Docket No. RP00-340-002]

Gulf South Pipeline Company, LP; Notice of Tariff Filing

September 20, 2001.

Take notice that on September 14, 2001, Gulf South Pipeline Company, LP (“Gulf South”) tendered for filing the pro forma tariff sheets listed on Attachment A.

Sixth Revised Volume No. 1

See Attachment

In compliance with Order No. 637, Gulf South is submitting pro forma tariff sheets that, when approved, will implement segmentation on its system. Gulf South, with this filing and the pro forma tariff sheets filed on February 1, 2001, is in full compliance with the requirements of Order No. 637.

The parties have agreed that initial comments to Gulf South's segmentation proposal are due on September 28, 2001. Parties filing comments on the 28th have agreed to provide copies of those comments to Gulf South either electronically or by other means so that they are received by Gulf South on that date. Reply comments are due on October 10, 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24012 Filed 9-25-01; 8:45 am]

BILLING CODE 6717-01-P